DEPARTMENT OF HOMELAND SECURITY

U.S. Citizenship and Immigration Services

Agency Information Collection Activities: Extension of a Currently Approved Information Collection; Comment Request

ACTION: 30-Day notice of information collection under review: Request for Hearings on a Decision in Naturalization Proceedings under Section 336; Form N-336.

The Department of Homeland Security, U.S. Citizenship and Immigration Services (USCIS) has submitted the following information collection request to the Office of Management and Budget (OMB) for review and clearance in accordance with the Paperwork Reduction Act of 1995. The information collection was previously published in the Federal Register on May 16, 2005 at 70 FR 25842, allowed for a 60-day public comment period. No comments were received by the USCIS on this proposed information collection.

The purpose of this notice is to allow an additional 30 days for public comments. Comments are encouraged and will be accepted until August 18, 2005. This process is conducted in accordance with 5 CFR 1320.10.

Written comments and suggestions from the public and affected agencies concerning the collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Extension of a currently approved information collection.

(2) Title of the Form/Collection: Request for Hearing on a Decision in Naturalization Proceedings under Section 336.

(3) Agency form number, if any, and the applicable component of the Department of Homeland Security sponsoring the collection: Form N-336. U.S. Citizenship and Immigration Services.

(4) Affected public who will be asked or required to respond, as well as a brief abstract: Primary: Individuals or Households. The form will be used by applicants for naturalization to pursue the only venue available to them in the appeal process.

(5) An estimate of the total number of respondents and the amount of times estimated for an average respondent to respond: 7,669 responses at 165 minutes (2.75 hours) per response.

(6) An estimate of the total public burden (in hours) associated with the collection: 21,090 annual burden hours.

If you have additional comments, suggestions, or need a copy of the proposed information collection instrument, please contact Richard A. Sloan, Director, Regulatory Management Division, U.S. Citizenship and Immigration Services, 111 Massachusetts Avenue, NW., Washington, DC 20529; (202) 272-8377.

Dated: June 21, 2005.
Richard A. Sloan,
Director, Regulatory Management Division, U.S. Citizenship and Immigration Services.

[FR Doc. 05-14127 Filed 7-18-05; 8:45 am]

BILLING CODE 4410-10-M